DEPARTMENT OF COMMERCE

National Oceanic and Atmospheric Administration

RIN 0648-XV095

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Joint Groundfish Committee and Advisory Panel to consider actions affecting New England fisheries in the exclusive economic zone (EEZ). Recommendations from this group will be brought to the full Council for formal consideration and action, if appropriate.

DATES: This meeting will be held on Wednesday, October 30, 2019 at 9 a.m.

ADDRESSES: The meeting will be held at the Holiday Inn, 300 Woodbury Avenue, Portsmouth, NH 03801; phone: (603) 431-8000.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Groundfish Committee and Advisory Panel will discuss Framework Adjustment 59/specifications in particular the development of the draft alternatives including updates to annual catch limits for FY2020-FY2022: Specifications for fifteen groundfish stocks, total allowable catches for US/CA management units of Eastern Georges Bank (GB) cod, Eastern GB haddock, and GB yellowtail flounder stock, sub-annual catch limits for Atlantic sea scallop, small-mesh multispecies, and herring fisheries, revisions/additions to commercial/recreational allocations, and removal of allocation to the Closed Area I Haddock Hook Gear Special Access Program. The group will also discuss Amendment 23/Groundfish Monitoring and receive an update on progress on the draft Environmental Impact Statement (DEIS). Other business will be discussed as necessary.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date. This meeting will be recorded. Consistent with 16 U.S.C. 1852, a copy of the recording is available upon request.

Authority: 16 U.S.C. 1801 et seq.

Dated: October 3, 2019.
Tracey L. Thompson,
Acting Deputy Director, Office of Sustainable Fisheries, National Marine Fisheries Service.

[FR Doc. 2019-21897 Filed 10-7-19; 8:45 am]

BILLING CODE 3510-22-P